DEPARTMENT OF LABOR

Mine Safety and Health Administration

Notice of Affirmative Decisions on Petitions for Modification Granted in Whole or in Part

AGENCY: Mine Safety and Health Administration (MSHA), Labor.

ACTION: Notice of Affirmative Decisions on Petitions for Modification Granted in Whole or in Part.

SUMMARY: The Mine Safety and Health Administration (MSHA) enforces mine operator compliance with mandatory safety and health standards that protect miners and improve safety and health conditions in U.S. Mines. This Federal Register Notice (FR Notice) notifies the public that it has investigated and issued a final decision on certain mine operator petitions to modify a safety standard.

ADDRESSES: Copies of the final decisions are posted on MSHA's Web site at http://www.msha.gov/indexes/petition.htm. The public may inspect the petitions and final decisions during normal business hours in MSHA's Office of Standards, Regulations, and Variances, 1100 Wilson Boulevard, Room 2349, Arlington, Virginia 22209. All visitors must first stop at the receptionist desk on the 21st Floor to sign-in.

FOR FURTHER INFORMATION CONTACT: Roslyn B. Fontaine, Acting Deputy Director, Office of Standards, Regulations, and Variances at 202-693-9475 (Voice), fontaine.roslyn@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2007-011-C.

FR Notice: 72 FR 31859 (June 8, 2007).

Petitioner: Blue Diamond Coal Company, P.O. Box 47, Slemp, Kentucky 41763.

Mine: No. 75 Mine, MSHA I.D. No. 15-17478, located in Perry County, Kentucky.

Regulation Affected: 30 CFR 75.364(b)(2) (Weekly examination).

• Docket Number: M-2007-035-C.

FR Notice: 72 FR 36066 (July 2, 2007).

Petitioner: Black Beauty Coal Company, LLC, Vermilion Grove Road, 4500 N 1500 East Road, Ridge Farm, Illinois 61870-6075.

Mine: Riola Mine Complex-Vermilion Grove, MSHA I.D. No. 11-03060, located in Vermilion County, Illinois.

Regulation Affected: 30 CFR 75.1909(b)(6) (Non-permissible diesel-powered equipment; design and performance requirements).

• Docket Number: M-2007-067-C.

FR Notice: 72 FR 70350 (December 11, 2007).

Petitioner: Mach Mining, LLC, P.O. Box 300, Johnson City, Illinois 62951.

Mine: Mach No. 1 Mine, MSHA I.D. No. 11-03141, located in Williamson County, Illinois.

Regulation Affected: 30 CFR 75.1700 (Oil and gas wells).

• Docket Number: M-2007-070-C.

FR Notice: 73 FR 4638 (January 25, 2008).

Petitioner: White County Coal, LLC, P.O. Box 457, Carmi, Illinois 62821.

Mine: Pattiki Mine, MSHA I.D. No. 11-03058, located in White County, Illinois.

Regulation Affected: 30 CFR 75.503 (Permissible electric face equipment; maintenance) and 30 CFR 18.35 (Portable trailing cables and cords).

• Docket Number: M-2007-072-C.

FR Notice: 73 FR 4638 (January 25, 2008).

Petitioner: Harlan-Cumberland Coal Company, P.O. Box 1710, 103 South Cumberland Avenue, Suite 200, Harlan, Kentucky 40831.

Mine: Totz Preparation Plant, MSHA I.D. No. 15-10657, located in Harlan County, Kentucky.

Regulation Affected: 30 CFR 77.214(a) (Refuse piles; general).

• Docket Number: M-2008-001-C.

FR Notice: 73 FR 7324 (February 7, 2008).

Petitioner: S & M Coal Company, 1744 E. Grand Avenue, Tower City, Pennsylvania 17980.

Mine: Buck Mountain Slope, MSHA I.D. No. 36-02022, located in Dauphin County, Pennsylvania.

Regulation Affected: 30 CFR 75.1400 (Hoisting equipment; general).

• Docket Number: M-2008-003-C.

FR Notice: 73 FR 12775 (March 10, 2008).

Petitioner: Brooks Run Mining Company, 208 Business Street, Beckley, West Virginia 25801.

Mine: Wyoming No. 1 Mine, MSHA I.D. No. 46-09213, located in Wyoming County, West Virginia; Cucumber Mine, MSHA I.D. No. 46-09066 and War Branch No. 1 Mine, MSHA I.D. No. 46-09055, located in McDowell County, West Virginia.

Regulation Affected: 30 CFR 75.1101-1(b) (Deluge-type water spray systems).

• Docket Number: M-2008-004-C.

FR Notice: 73 FR 12775 (March 10, 2008).

Petitioner: The American Coal Company, P.O. Box 727, Harrisburg, Illinois 62946.

Mine: Galatia Mine, MSHA I.D. No. 11-02752, located in Saline County, Illinois.

Regulation Affected: 30 CFR 75.503 (Permissible electric face equipment; maintenance) and 30 CFR 18.35 (Portable trailing cables and cords).

• Docket Number: M-2008-010-C.

FR Notice: 73 FR 20066 (April 24, 2008).

Petitioner: Pleasant View Mining Company, Inc., 755 Nebo Road, Madisonville, Kentucky 42431.

Mine: Richland No. 9 Mine, MSHA I.D. No. 15-17232, Hopkins County, Kentucky.

Regulation Affected: 30 CFR 75.1101-1(b) (Deluge-type water spray systems).

Dated: January 6, 2009.
Patricia W. Silvey,
Director, Office of Standards, Regulations, and Variances.

[FR Doc. E9-330 Filed 1-9-09; 8:45 am]

BILLING CODE 4510-43-P